DEPARTMENT OF HOUSING AND URBAN DEVELOPMENT

[Docket No. FR-4980-N-24]

Federal Property Suitable as Facilities To Assist the Homeless

AGENCY: Office of the Assistant Secretary for Community Planning and Development, HUD.

ACTION: Notice.

SUMMARY: This notice identifies unutilized, underutilized, excess, and surplus Federal property reviewed by HUD for suitability for possible use to assist the homeless.

FOR FURTHER INFORMATION CONTACT: Kathy Ezzell, room 7266, Department of Housing and Urban Development, 451 Seventh Street, SW., Washington, DC 20410; telephone (202) 708-1234; TTY number for the hearing- and speech-impaired (202) 708-2565 (these telephone numbers are not toll-free), or call the toll-free Title V information line at 1-800-927-7588.

SUPPLEMENTARY INFORMATION: In accordance with 24 CFR part 581 and section 501 of the Stewart B. McKinney Homeless Assistance Act (42 U.S.C. 11411), as amended, HUD is publishing this notice to identify Federal buildings and other real property that HUD has reviewed for suitability for use to assist the homeless. The properties were reviewed using information provided to HUD by Federal landholding agencies regarding unutilized and underutilized buildings and real property controlled by such agencies or by GSA regarding its inventory of excess or surplus Federal property. This notice is also published in order to comply with the December 12, 1988, Court Order in National Coalition for the Homeless v. Veterans Administration, No. 88-2503-OG (D.D.C.).

Properties reviewed are listed in this notice according to the following categories: Suitable/available, suitable/unavailable, suitable/to be excess, and unsuitable. The properties listed in the three suitable categories have been reviewed by the landholding agencies, and each agency has transmitted to HUD: (1) Its intention to make the property available for use to assist the homeless, (2) its intention to declare the property excess to the agency's needs, or (3) a statement of the reasons that the property cannot be declared excess or made available for use as facilities to assist the homeless.

Properties listed as suitable/available will be available exclusively for homeless use for a period of 60 days from the date of this Notice. Where property is described as for “off-site use only” recipients of the property will be required to relocate the building to their own site at their own expense. Homeless assistance providers interested in any such property should send a written expression of interest to HHS, addressed to John Hicks, Division of Property Management, Program Support Center, HHS, room 5B-17, 5600 Fishers Lane, Rockville, MD 20857; (301) 443-2265. (This is not a toll-free number.) HHS will mail to the interested provider an application packet, which will include instructions for completing the application. In order to maximize the opportunity to utilize a suitable property, providers should submit their written expressions of interest as soon as possible. For complete details concerning the processing of applications, the reader is encouraged to refer to the interim rule governing this program, 24 CFR part 581.

For properties listed as suitable/to be excess, that property may, if subsequently accepted as excess by GSA, be made available for use by the homeless in accordance with applicable law, subject to screening for other Federal use. At the appropriate time, HUD will publish the property in a notice showing it as either suitable/available or suitable/unavailable.

For properties listed as suitable/unavailable, the landholding agency has decided that the property cannot be declared excess or made available for use to assist the homeless, and the property will not be available.

Properties listed as unsuitable will not be made available for any other purpose for 20 days from the date of this notice. Homeless assistance providers interested in a review by HUD of the determination of unsuitability should call the toll free information line at 1-800-927-7588 for detailed instructions or write a letter to Mark Johnston at the address listed at the beginning of this notice. Included in the request for review should be the property address (including zip code), the date of publication in the Federal Register, the landholding agency, and the property number.

For more information regarding particular properties identified in this Notice (i.e., acreage, floor plan, existing sanitary facilities, exact street address), providers should contact the appropriate landholding agencies at the following addresses: Energy: Mr. Andy Duran, Department of Energy, Office of Engineering & Construction Management, ME-90, 1000 Independence Ave, SW., Washington, DC 20585: (202) 586-4548; GSA: Mr. Brian K. Polly, Assistant Commissioner, General Services Administration, Office of Property Disposal, 18th and F Streets, NW., Washington, DC 20405; (202) 501-0084; Interior: Ms. Linda Tribby, Acquisition & Property Management, Department of the Interior, 1849 C Street, NW., MS5512, Washington, DC 20240; (202) 219-0728; Navy: Mr. Charles C. Cocks, Department of the Navy, Real Estate Policy Division, Naval Facilities Engineering Command, Washington Navy Yard, 1322 Patterson Ave., SE., Suite 1000, Washington, DC 20374-5065; (202) 685-9200 (these are not toll-free numbers).

Dated: June 9, 2005.
Mark R. Johnston,
Director, Office of Special Needs, Assistance Programs.

Title V, Federal Surplus Property Program Federal Register Report For 6/17/05

Suitable/Available Properties

Buildings (by State)

Idaho

Bldg. 79

Section 9

Portion of Tract C

Paul Co: Jeromo ID 83347-

Landholding Agency: Interior

Property Number: 61200520012

Status: Unutilized

Comment: 832 sq. ft., presence of asbestos/lead paint, most recent use—residence, off-site use only

West Virginia

Cyrus House/Garage

New River Gorge

Tract 102-33

Hinton Co: Raleigh WV 25951-

Landholding Agency: Interior

Property Number: 61200520014

Status: Excess

Comment: 2964 sq. ft. & 280 sq. ft., most recent use—residential, off-site use only

Cochran Cabin #1

New River Gorge

Tract 104-04

Hinton Co: Raleigh WV 25951-

Landholding Agency: Interior

Property Number: 61200520015

Status: Excess

Comment: 624 sq. ft., off-site use only

Cochran Cabin #2

New River Gorge

Tract 104-04

Hinton Co: Raleigh WV 25951-

Landholding Agency: Interior

Property Number: 61200520016

Status: Excess

Comment: 624 sq. ft., off-site use only

Rhodes Well House

New River Gorge

Tract 169-21

Hinton Co: Raleigh WV 25951-

Landholding Agency: Interior

Property Number: 61200520017

Status: Excess

Comment: 80 sq. ft., off-site use only

Rhodes Barn/Storage

New River Gorge

Tract 169-21

Hinton Co: Raleigh WV 25951-

Landholding Agency: Interior

Property Number: 61200520018

Status: Excess

Comment: 70 sq. ft., off-site use only

Rhodes House

New River Gorge

Tract 169-21

Hinton Co: Raleigh WV 25951-

Landholding Agency: Interior

Property Number: 61200520019

Status: Excess

Comment: 900 sq. ft., most recent use—residential, off-site use only

Unsuitable Properties

Buildings (by State)

California

Facility 35

Naval Weapons Station

Seal Beach Detachment

Pittsburgh Co: CA

Landholding Agency: GSA

Property Number: 54200520016

Status: Excess

Reason: Within 2000 ft. of flammable or explosive material

GSA Number: 9-N-CA-1630

Guam

Bldg. FH5

Naval Forces

Marianas Co: GU

Landholding Agency: Navy

Property Number: 77200520022

Status: Unutilized

Reason: Extensive deterioration

Bldg. B-32

Naval Forces

Marianas Co: GU

Landholding Agency: Navy

Property Number: 77200520023

Status: Unutilized

Reason: Extensive deterioration

Bldgs. 76, 77, 79

Naval Forces

Marianas Co: GU

Landholding Agency: Navy

Property Number: 77200520024

Status: Unutilized

Reason: Extensive deterioration

4 Bldgs.

Naval Forces

261, 262, 263, 269

Marianas Co: GU

Landholding Agency: Navy

Property Number: 77200520025

Status: Unutilized

Reason: Extensive deterioration

Bldg. 404NM

Naval Forces

Marianas Co: GU

Landholding Agency: Navy

Property Number: 77200520026

Status: Unutilized

Reason: Extensive deterioration

Bldgs. 635 thru 640

Naval Forces

Marianas Co: GU

Landholding Agency: Navy

Property Number: 77200520027

Status: Unutilized

Reason: Extensive deterioration

Bldg. 1964

Naval Forces

Marianas Co: GU

Landholding Agency: Navy

Property Number: 77200520028

Status: Unutilized

Reason: Extensive deterioration

Bldgs. 2013, 2014

Naval Forces

Marianas Co: GU

Landholding Agency: Navy

Property Number: 77200520029

Status: Unutilized

Reason: Extensive deterioration

Bldgs. 3150, 3268

Naval Forces

Marianas Co: GU

Landholding Agency: Navy

Property Number: 77200520030

Status: Unutilized

Reason: Extensive deterioration

Bldgs. 5409, 5412, 5413

Naval Forces

Marianas Co: GU

Landholding Agency: Navy

Property Number: 77200520031

Status: Unutilized

Reason: Extensive deterioration

Bldg. 5500

Naval Forces

Marianas Co: GU

Landholding Agency: Navy

Property Number: 77200520032

Status: Unutilized

Reason: Extensive deterioration

Illinois

Trailer 072

FERMILAB

Batavia Co: DuPage IL 60510-

Landholding Agency: Energy

Property Number: 41200520009

Status: Excess

Reason: Extensive deterioration

Maryland

Structure 145

Naval Surface Warfare Center

Bethesda Co: MD 20817-5700

Landholding Agency: Navy

Property Number: 77200520015

Status: Unutilized

Reasons: Within 2000 ft. of flammable or explosive material Secured Area

Ft. Washington Facility

Interagency Training Center

Ft. Washington Co: Prince George MD 20744-5821

Landholding Agency: Navy

Property Number: 77200520021

Status: Underutilized

Reason: Secured Area

Mississippi

Tracts 06-156, 06-152, 06-153

National Military Park

Vicksburg Co: Warren MS 39180-

Landholding Agency: Interior

Property Number: 61200520013

Status: Unutilized

Reason: Extensive deterioration

Missouri

National Geospatial Agency

8900 S. Broadway

St. Louis Co: MO 63125-

Landholding Agency: GSA

Property Number: 54200520017

Status: Excess

Reason: Floodway

GSA Number: 7-D-MO-0406

New York

Bldg. 0086

Brookhaven National Laboratory

Upton Co: Suffolk NY 11973-

Landholding Agency: Energy

Property Number: 41200520010

Status: Unutilized

Reason: Extensive deterioration

Bldg. 0527

Brookhaven National Laboratory

Upton Co: Suffolk NY 11973-

Landholding Agency: Energy

Property Number: 41200520011

Status: Unutilized

Reason: Extensive deterioration

Bldg. 0650A

Brookhaven National Laboratory

Upton Co: Suffolk NY 11973-

Landholding Agency: Energy

Property Number: 41200520012

Status: Unutilized

Reason: Extensive deterioration

Bldgs. 0933B, 0934

Brookhaven National Laboratory

Upton Co: Suffolk NY 11973-

Landholding Agency: Energy

Property Number: 41200520013

Status: Unutilized

Reason: Extensive deterioration

Virginia

Facility 1706

Marine Corps Base

Quantico Co: VA

Landholding Agency: Navy

Property Number: 77200520016

Status: Underutilized

Reason: Secured Area

Facility 2194

Marine Corps Base

Quantico Co: VA

Landholding Agency: Navy

Property Number: 77200520017

Status: Underutilized

Reason: Secured Area

Facility 2690

Marine Corps Base

Quantico Co: VA

Landholding Agency: Navy

Property Number: 77200520018

Status: Underutilized

Reason: Secured Area

Facility 24144A

Marine Corps Base

Quantico Co: VA

Landholding Agency: Navy

Property Number: 77200520019

Status: Underutilized

Reason: Secured Area

Facility 27203

Marine Corps Base

Quantico Co: VA

Landholding Agency: Navy

Property Number: 77200520020

Status: Underutilized

Reason: Secured Area

West Virginia

Buckland Pump House

New River Gorge

Tract 104-01

Hinton Co: Raleigh WV 25951-

Landholding Agency: Interior

Property Number: 61200520020

Status: Excess

Reason: Extensive deterioration

Buckland Footbridge

New River Gorge

Tract 104-01

Hinton Co: Raleigh WV 25951-

Landholding Agency: Interior

Property Number: 61200520021

Status: Excess

Reason: Extensive deterioration

Helms House/Shed

New River Gorge

Tract 104-05

Hinton Co: Raleigh WV 25951-

Landholding Agency: Interior

Property Number: 61200520022

Status: Excess

Reason: Extensive deterioration

Cochran Pump House

New River Gorge

Tract 104-29

Hinton Co: Raleigh WV 25951-

Landholding Agency: Interior

Property Number: 61200520023

Status: Excess

Reason: Extensive deterioration

Cochran Camp

New River Gorge

Tract 104-31

Hinton Co: Raleigh WV 25951-

Landholding Agency: Interior

Property Number: 61200520024

Status: Excess

Reason: Extensive deterioration

Emil Pike Buildings

New River Gorge

Tract 121-20

Hinton Co: Raleigh WV 25951-

Landholding Agency: Interior

Property Number: 61200520025

Status: Excess

Reason: Extensive deterioration

Poling House/Sheds

New River Gorge

Tract 121-21

Hinton Co: Raleigh WV 25951-

Landholding Agency: Interior

Property Number: 61200520026

Status: Excess

Reason: Extensive deterioration

Laing House

New River Gorge

Tract 154-9

Hinton Co: Raleigh WV 25951-

Landholding Agency: Interior

Property Number: 61200520027

Status: Excess

Reason: Extensive deterioration

Truman Dent House

New River Gorge

Tract 166-01

Hinton Co: Raleigh WV 25951-

Landholding Agency: Interior

Property Number: 61200520028

Status: Excess

Reason: Extensive deterioration

Harris House

New River Gorge

Tract 166-06

Hinton Co: Raleigh WV 25951-

Landholding Agency: Interior

Property Number: 61200520029

Status: Excess

Reason: Extensive deterioration

Crabtree House

New River Gorge

Tract 169-25

Hinton Co: Raleigh WV 25951-

Landholding Agency: Interior

Property Number: 61200520030

Status: Excess

Reason: Extensive deterioration

Land (by State)

Puerto Rico

Landfill Parcel

Naval Security Group

Sabana Sera

Toa Baja Co: PR

Landholding Agency: GSA

Property Number: 54200520015

Status: Excess

Reason: Within 2000 ft. of flammable or explosive material

GSA Number: 1-N-PR-0513-1D

[FR Doc. E5-3068 Filed 6-16-05; 8:45 am]

BILLING CODE 4210-27-P